DEPARTMENT OF ENERGY

Federal Energy Regulatory Commission

[Docket No. RP03-470-002]

Southern Star Central Gas Pipeline, Inc.; Notice of Compliance Filing

February 24, 2004.

Take notice that on February 20, 2004, Southern Star Central Gas Pipeline, Inc. (Southern Star) tendered for filing as part of its FERC Gas Tariff, Original Volume No. 1, the tariff sheets listed below to become effective November 1, 2003:

Fourth Revised Sheet No. 244

Fourth Revised Sheet No. 246

Southern Star states that the tariff sheets filed herewith are being submitted to incorporate the approved alternative cash-out pricing index into the applicable currently effective tariff sheets. The alternative pricing mechanism was accepted as of May 15, 2003, by Commission Letter Order dated February 11, 2004.

Southern Star states that copies of the tariff sheets are being mailed to Southern Star's jurisdictional customers and interested State commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-426 Filed 2-27-04; 8:45 am]

BILLING CODE 6717-01-P